DEPARTMENT OF THE INTERIOR

National Park Service

[NPS-WASO-NRNHL-24491;

[PPWOCRADI0, PCU00RP14.R50000]

National Register of Historic Places; Notification of Pending Nominations and Related Actions

AGENCY: National Park Service, Interior.

ACTION: Notice.

SUMMARY: The National Park Service is soliciting comments on the significance of properties nominated before October 14, 2017, for listing or related actions in the National Register of Historic Places.

DATES: Comments should be submitted by November 29, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before October 14, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Cook County

Marshall Hotel, (Residential Hotels in Chicago, 1880-1930 MPS), 1232 N LaSalle St., Chicago, MP100001833

IOWA

Dubuque County

Eagle Point Park Historic District, 2601 Shiras Ave., Dubuque, SG100001834

MICHIGAN

Alpena County

GRECIAN Shipwreck Site, L. Huron, Alpena vicinity, SG100001835

Genesee County

Genesee County Savings Bank Building, 352 S Saganaw St., Flint, SG100001836

Kent County

Keeler Building, 56 N Division Ave., Grand Rapids, 80004806

Presque Isle County

JOSEPH S. FAY Shipwreck Site, Off of Forty Mile Point Lighthouse in L. Huron, Rogers City vicinity, SG100001838

Wayne County

Edson, Moore and Company Building, 1702 W Fort St., Detroit, SG100001839

McKinley Elementary School, 640 Plum St., Wyandotte, SG100001840

MINNESOTA

Houston County

Ballard Hotel, 163 W. Main St., Spring Grove, SG100001841

Nobles County

Worthington Armory and Community Building, 225 9th St., Worthington, SG100001844

St. Louis County

LaSalle Apartments, 201 N 5th Ave., Virginia, SG100001845

MISSOURI

New Madrid County

Howardville School, 6916 US 61, Howardville, SG100001847

VIRGINIA

Accomack County

Saxis Island Historic District, Saxis Rd. & feeder lanes, Saxis, SG100001848

Alleghany County

Clifton Forge Commercial Historic District (Boundary Increase), 321 Commercial Ave., Clifton Forge, BC100001850

Amherst County

St. Luke's Episcopal Church, 3788 Buffalo Springs Tpk., Monroe vicinity, SG100001849

Harrisonburg Independent City

Bethel AME Church and Dallard—Newman House Historic District, 184-192 Kelly St., Harrisonburg (Independent City), SG100001851

Loudoun County

Shiloh Baptist Church, 304 E Marshall St., Middleburg, SG100001852

Mecklenburg County

South Hill Commercial Historic District, Mecklenburg Ave., Franklin & W Danville Sts., South Hill, SG100001853

Richmond Independent City

Tower Building, 3212 Cutshaw Ave., Richmond (Independent City), SG100001854

Surry County

Town of Surry Historic District, Generally along Colonial Trail E, Rolfe Hwy., Lebanon Rd. & Beechland Rds., Bank, School& Church Sts., Surry, SG100001855

WISCONSIN

Monroe County

Tomah Boy Scout Cabin, 415 E Council St., Tomah, SG100001856

Price County

Prentice Boy Scout Cabin, 1600 blk. of Washington St., Prentice, SG100001857

A request for removal has been made for the following resources:

MINNESOTA

Kandiyohi County

Spicer, John M., House, 515 Seventh St. NW., Willmar, OT86001545

Nobles County

Adrian State Bank, (Nobles County MRA), Main St. and 2nd Ave., Adrian, OT80002093

Wilkin County

Tenney Fire Hall, (Wilkin County MRA), Concord Ave., Tenney, OT80002186

Additional documentation has been received for the following resources:

ARKANSAS

Faulkner County

Springfield Bridge, CR 222 at Cadron Creek, Springfield vicinity, AD88000660

Jefferson County

Pine Bluff Commercial Historic District, Roughly bounded by US 65B, Walnut St., 10th Ave. & S. Alabama St., Pine Bluff, AD08000438

Pope County

Russellville Downtown Historic District, Roughly bounded by W. 2nd St., Arkansas Ave., Missouri—Pacific RR tracks and El Paso St., Russellville, AD96000941

Authority: 60.13 of 36 CFR part 60.

Dated: October 17, 2017.
J. Paul Loether,
Chief, National Register of Historic Places/National Historic Landmarks Program and Keeper, National Register of Historic Places.

[FR Doc. 2017-24612 Filed 11-13-17; 8:45 am]

BILLING CODE 4312-52-P